DEPARTMENT OF COMMERCE

Bureau of Industry and Security

15 CFR Part 762

Recordkeeping

CFR Correction

In Title 15 of the Code of Federal Regulations, Parts 300 to 799, revised as of January 1, 2015, on pages 657 and 658, in § 762.1, in paragraph (b), remove “§ 762.7” and add “§ 762.2” in its place, and remove “§ 762.6” and add “§ 762.7” in its place.

[FR Doc. 2015-31733 Filed 12-16-15; 8:45 am]

BILLING CODE 1505-01-D